NATIONAL CREDIT UNION ADMINISTRATION

Agency Information Collection Activities: Submission to OMB For Review; Comment Request

AGENCY: National Credit Union Administration (NCUA).

ACTION: Request for comment.

SUMMARY: The NCUA intends to submit the following information collection to the Office of Management and Budget (OMB) for review and clearance under the Paperwork Reduction Act of 1995 (Pub.L. 104-13, 44 U.S.C. Chapter 35). This information collection is published to obtain comments from the public.

DATES: Comments will be accepted until January 27, 2003.

ADDRESSES: Interested parties are invited to submit written comments to NCUA Clearance Officer or OMB Reviewer listed below:

Clearance Officer: Mr. Neil McNamara, (703) 518-6447, National Credit Union Administration, 1775 Duke Street, Alexandria, VA 22314-3428, Fax No. 703-518-6489, E-mail: mcnamara@ncua.gov.

OMB Reviewer: Mr. Joseph F. Lackey, (202) 395-4741, Office of Management and Budget, Room 10226, New Executive Office Building, Washington, DC 20503.

FOR FURTHER INFORMATION: Copies of the information collection requests, with applicable supporting documentation, may be obtained by calling the: NCUA Clearance Officer, Neil McNamara, (703) 518-6447.

It is also available on the following Web site: http://www.NCUA.gov.

SUPPLEMENTARY INFORMATION: Proposal for the following collection of information:

OMB Number: 3133-0068.

Form Number: N/A.

Type of Review: Reinstatement, without change, of a previously approved collection for which approval has expired.

Title: 12 CFR 701.31 Non Discrimination Policy.

Description: This regulation requires a federal credit union (FCU) to keep a copy of the property appraisal. It also requires that a FCU using geographical factors in evaluating real estate loan applications must disclose such facts on the appraisal and state for justification. This regulation insures compliance with the Fair Housing anti-redlining requirements.

Respondents: Federal Credit Unions.

Estimated No. of Respondents/Record keepers: 4,000.

Estimated Burden Hours Per Response: 1 hour.

Frequency of Response: Recordkeeping on occasion.

Estimated Total Annual Burden Hours: 4,000.

Estimated Total Annual Cost: N/A.

By the National Credit Union Administration Board on December 17, 2002.
Becky Baker,
Secretary of the Board.

[FR Doc. 02-32502 Filed 12-24-02; 8:45 am]

BILLING CODE 7535-01-P